NATIONAL AERONAUTICS AND SPACE ADMINISTRATION

14 CFR Part 1260

RIN 2700-AC96

NASA Grant and Cooperative Agreement Handbook—Certifications, Disclosures, and Assurances

AGENCY: National Aeronautics and Space Administration (NASA).

ACTION: Final rule.

SUMMARY: This final rule amends the NASA Grant and Cooperative Agreement Handbook (Handbook) to require that announcements of funding opportunities advise potential applicants for grants and cooperative agreements that they will be required to submit required certifications, disclosures, and assurances with their proposals; and clarify the methods for ensuring compliance with certifications, disclosures, and assurances. This change is made to inform applicants of the requirement to demonstrate compliance prior to proposal preparation instead of prior to award, thereby giving potential applicants advance notice of these requirements.

EFFECTIVE DATE: April 22, 2004.

ADDRESSES: Interested parties may submit comments, identified by RIN number 2700-AC96, via the Federal eRulemaking Portal: http://www.regulations.gov. Follow the instructions for submitting comments. Comments may also be submitted to Suzan Moody, NASA, Office of Procurement, Contract Management Division (Code HK), Washington, DC 20546. Comments can also be submitted by e-mail to: Suzan.P.Moody@nasa.gov.

FOR FURTHER INFORMATION CONTACT: Suzan P. Moody, NASA Headquarters, Code HC, Washington, DC, (202) 358-0503, e-mail: Suzan.P.Moody@nasa.gov.

SUPPLEMENTARY INFORMATION:

A. Background

The Handbook currently requires grant officers to ensure that all necessary certifications, disclosures, and assurances regarding debarment and suspension, lobbying, and nondiscrimination have been obtained prior to awarding a grant or cooperative agreement. This policy effectively requires applicants to demonstrate compliance with the required certifications, disclosures, and assurances prior to award but not necessarily prior to proposal submission. This change will require that announcements of funding opportunities advise applicants that they must demonstrate compliance with all required certifications, disclosures, and assurances in their proposal submissions. This change is made to inform applicants of the requirement to demonstrate compliance prior to proposal preparation instead of prior to award, thereby giving potential applicants advance notice of these requirements. Additionally, the methods for demonstrating compliance with certifications, disclosures, and assurances are clarified. The first method provides for each individual certification, disclosure, and assurance to be signed by the Authorizing Institutional Representative. The second method currently provides that “Signature by the Authorizing Institutional Representative on the proposal Cover Page may confirm that all necessary certifications and assurances are met.” This statement is only accurate when the Cover Page includes a notice that lists each certification and assurance, and states that signature by the Authorizing Institutional Representative confirms that these specific certifications and assurances are met. To clarify this requirement, the Handbook will be revised to state: “Signature by the Authorizing Organizational Representative on the proposal Cover Page may confirm that all necessary certifications and assurances are met, provided that the Cover Page includes a notice to that effect.” An administrative change is made to change the term “Authorizing Institutional Representative” to “Authorizing Organizational Representative” because the latter term is more commonly used by NASA recipients. Finally, this final rule corrects the list of NASA implementing regulations in paragraph (c) of the Provision at § 1260.32, “Nondiscrimination” by adding “14 CFR 1253”.

This is not a significant regulatory action and, therefore, was not subject to review under section 6(b) of Executive Order 12866, Regulatory Planning and Review, dated September 30, 1993. This rule is not a major rule under 5 U.S.C. 804.

B. Regulatory Flexibility Act

NASA certifies that this final rule will not have a significant economic impact on a substantial number of small entities within the meaning of the Regulatory Flexibility Act, 5 U.S.C. 601 et seq., because the changes do not impose additional requirements. The changes only modify the timing of existing requirements.

C. Paperwork Reduction Act

The Paperwork Reduction Act does not apply because this final rule does not impose any new recordkeeping or information collection requirements, or collection of information from offerors, contractors, or members of the public that require the approval of the Office of Management and Budget under 44 U.S.C. 3501, et seq.

List of Subjects in 14 CFR Part 1260

Grant Programs—Science and Technology.

Tom Luedtke,
Assistant Administrator for Procurement.

Accordingly, 14 CFR part 1260 is amended as follows:

1. The authority citation for 14 CFR part 1260 continues to read as follows:

Authority: 42 U.S.C. 2473(c)(1), Pub. L. 97-258, 96 Stat. 1003 (31 U.S.C. 6301, et seq.)

PART 1260—GRANTS AND COOPERATIVE AGREEMENTS

2. Revise paragraph (c) in §1260.10 to read as follows:

§ 1260.10 Proposals.

* * * * *

(c)(1) All announcements for grant and cooperative agreement funding opportunities shall require the applicant to submit all required certifications, disclosures, and assurances as part of the proposal. The following certifications and assurance are required to be submitted as part of all proposals:

(i) A certification for debarment and suspension under the requirements of 14 CFR 1265.510.

(ii) A certification, and a disclosure form (SF LLL) if required, on Lobbying under the requirements of 14 CFR 1271.110 for awards exceeding $100,000.

(iii) An assurance of Compliance with NASA Regulations Concerning Nondiscrimination as required by 14 CFR parts 1250 through 1253 or incorporation by reference of a signed NASA Form 1206 that is on file, current, and accurate.

(2) Compliance with certifications, disclosures, and assurances must be demonstrated by one of the following two methods:

(i) Each individual certification, disclosure, and assurance may be signed by the Authorizing Organizational Representative; or

(ii) Signature by the Authorizing Organizational Representative on the proposal Cover Page may confirm that all necessary certifications and assurances are met, provided that the Cover Page includes a notice to that effect.

* * * * *

3. Revise the undesignated headings and paragraph (c) in § 1260.32 to read as follows:

§ 1260.32 Nondiscrimination.

Nondiscrimination

April 2004.

* * * * *

(c) Work on NASA grants is subject to the provisions of Title VI of the Civil Rights Act of 1964 (Pub. L. 88-352; 42 U.S.C. 2000d-1), Title IX of the Education Amendments of 1972 (20 U.S.C. 1680 et seq.), section 504 of the Rehabilitation Act of 1973, as amended (29 U.S.C. 794), the Age Discrimination Act of 1975 (42 U.S.C. 6101 et seq.), and the NASA implementing regulations (14 CFR parts 1250, 1251, 1252, and 1253).

* * * * *

[FR Doc. 04-9015 Filed 4-21-04; 8:45 am]

BILLING CODE 7510-01-P